DEPARTMENT OF COMMERCE

Foreign-Trade Zones Board

[B-6-2020]

Foreign-Trade Zone 61—San Juan, Puerto Rico; Application for Subzone; Puerto Rico Storage & Distribution, Inc.; Aguadilla, Puerto Rico

An application has been submitted to the Foreign-Trade Zones (FTZ) Board by the Department of Economic Development and Commerce, grantee of FTZ 61, requesting subzone status for the facilities of Puerto Rico Storage & Distribution, Inc., located in Aguadilla, Puerto Rico. The application was submitted pursuant to the provisions of the Foreign-Trade Zones Act, as amended (19 U.S.C. 81a-81u), and the regulations of the FTZ Board (15 CFR part 400). It was formally docketed on February 4, 2020.

The proposed subzone (3.87 acres) is located at Highway 110, Km 28.7, Bo. Aguacate, Km. 5.6, Aguadilla, Puerto Rico. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is March 23, 2020. Rebuttal comments in response to material submitted during the foregoing period may be submitted during the subsequent 15-day period to April 6, 2020.

A copy of the application will be available for public inspection in the “Reading Room” section of the FTZ Board's website, which is accessible via www.trade.gov/ftz.

For further information, contact Camille Evans at Camille.Evans@trade.gov or (202) 482-2350.

Dated: February 4, 2020.
Andrew McGilvray,
Executive Secretary.

[FR Doc. 2020-02566 Filed 2-7-20; 8:45 am]

BILLING CODE 3510-DS-P